DEPARTMENT OF AGRICULTURE

Food and Nutrition Service

Agency Information Collection Activities: Proposed Collection; Comment Request—Special Nutrition Program Operations Study (SNPOS)

AGENCY: Food and Nutrition Service (FNS), United States Department of Agriculture.

ACTION: Notice and request for comments.

SUMMARY: In accordance with the Paperwork Reduction Act of 1995, this notice invites the the general public and other public agencies to comment on this proposed information collection. This collection is a new information collection for the Special Nutrition Program Operations Study.

DATES: Written comments on this notice must be received by January 4, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: John Endahl, Senior Program Analyst, Office of Research and Analysis, Food and Nutrition Service, USDA, 3101 Park Center Drive, Room 1004, Alexandria, VA 22302. Comments may also be submitted via fax to the attention of John Endahl at 703-305-2576 or via e-mail to john.endahl@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact John Endahl, Senior Program Analyst, Office of Research and Analysis, Food and Nutrition Service/USDA, 3101 Park Center Drive, Room 1004, Alexandria, VA 22302; Fax: 703-305-2576; E-mail: john.endahl@fns.usda.gov.

SUPPLEMENTARY INFORMATION: Title: Special Nutrition Program Operations Study.

OMB Number: 0584-NEW.

Expiration Date of Approval: Not yet determined.

Type of Information Collection Request: New information collection.

Abstract: The objective of the Special Nutrition Program Operations Study (SNPOS) is to collect timely data on policies, administrative, and operational issues on the Child Nutrition Programs. The ultimate goal is to analyze these data and provide input for new legislation on Child Nutrition Programs as well as to provide pertinent technical assistance and training to program implementation staff.

The SNPOS will help the Food and Nutrition Service (FNS) better understand and address current policy issues related to Special Nutrition Programs (SNP) operations. The policy and operational issues include, but are not limited to, the preparation of the program budget, development and implementation of program policy and regulations, and identification of areas for technical assistance and training. Specifically, this study will help FNS obtain:

• General descriptive data on the Child Nutrition (CN) program characteristics to help FNS respond to questions about the nutrition programs in schools;

• Data related to program administration for designing and revising program regulations, managing resources, and reporting requirements; and

• Data related to program operations to help FNS develop and provide training and technical assistance for School Food Authorities (SFAs) and State Agencies responsible for administering the CN programs.

The activities to be undertaken subject to this notice include:

• Conducting a multi-modal (e.g. paper, Web, and telephone) survey of approximately 1,500 SFA Directors.

• Conducting a paper survey of all 56 State Agency CN Directors.

Affected Public: State, Local and Tribal Governments.

Type of Respondents: 1,500 SFA Directors and 56 State CN Program Directors.

Estimated Total Number of Respondents: 1,556.

Frequency of Response: Once annually.

Estimated Annual Responses: 1,556.

Estimate of Time per Respondent and Annual Burden: Public reporting burden for this collection of information is estimated to average sixty (60) minutes per Self Administered Survey for the SFA Directors and the State Agency Child Nutrition Directors (this includes 30 minutes for data gathering and 30 minutes to respond to the questionnaire). Respondents in the SNOPS include 1,500 School Food Service Directors and 56 State Child Nutrition Program Directors. The annual reporting burden is estimated at 1,556 hours (see table below).

Data collection activity | Respondents | Estimated number of respondents | Frequency of response | Total annual responses | Average burden hours per response | Total annual burden estimate (hours)
Self Administered/Web/Telephone Survey | School Food Authority (SFA) Directors | 1,500 | 1 | 1,500 | 1 | 1,500
Self Administered/Telephone Survey | State Agency Child Nutrition Directors | 56 | 1 | 56 | 1 | 56
Total |  | 1,556 |  | 1,556 | 1 | 1,556

Dated: November 1, 2010.
Julia Paradis,
Administrator, Food and Nutrition Service.

[FR Doc. 2010-28037 Filed 11-4-10; 8:45 am]

BILLING CODE 3410-30-P